POSTAL SERVICE

Product Change—Priority Mail Express, Priority Mail, and USPS Ground Advantage Negotiated Service Agreements; Priority Mail and USPS Ground Advantage Negotiated Service Agreements; Priority Mail Negotiated Service Agreements

AGENCY: Postal Service.

ACTION: Notice.

SUMMARY: The Postal Service gives notice of filing a request with the Postal Regulatory Commission to add a domestic shipping services contract to the list of Negotiated Service Agreements in the Mail Classification Schedule's Competitive Products List.

DATES: Date of notice: November 5, 2025.

FOR FURTHER INFORMATION CONTACT: Sean C. Robinson, 202-268-8405.

SUPPLEMENTARY INFORMATION: The United States Postal Service hereby gives notice that, pursuant to 39 U.S.C. 3642 and 3632(b)(3), it filed with the Postal Regulatory Commission the following requests:

Date filed with Postal Regulatory Commission | Negotiated service agreement product category and No. | MC Docket No. | K Docket No.
10/27/25 | PM-GA 895 | MC2026-56 | K2026-56
10/27/25 | PME-PM-GA 1448 | MC2026-57 | K2026-57
10/28/25 | PM 942 | MC2026-58 | K2026-58
10/28/25 | PM- GA 896 | MC2026-59 | K2026-59
10/28/25 | PME-PM-GA 1449 | MC2026-61 | K2026-61
10/28/25 | PME-PM-GA 1450 | MC2026-62 | K2026-62
10/28/25 | PME-PM-GA 1451 | MC2026-63 | K2026-63
10/29/25 | PM-GA 897 | MC2026-64 | K2026-64
10/29/25 | PM-GA 898 | MC2026-65 | K2026-65
10/29/25 | PM-GA 899 | MC2026-66 | K2026-66
10/29/25 | PM-GA 900 | MC2026-67 | K2026-67
10/30/25 | PM-GA 901 | MC2026-68 | K2026-68
10/30/25 | PME-PM-GA 1452 | MC2026-69 | K2026-69
10/30/25 | PME-PM-GA 1453 | MC2026-70 | K2026-70
10/30/25 | PM-GA 902 | MC2026-71 | K2026-71
10/30/25 | PM-GA 903 | MC2026-72 | K2026-72

Documents are available at www.prc.gov.

Colleen Hibbert-Kapler,
Attorney, Ethics and Legal Compliance.

[FR Doc. 2025-19786 Filed 11-4-25; 8:45 am]

BILLING CODE 7710-12-P